ENVIRONMENTAL PROTECTION AGENCY

[ER-FRL-9043-7]

Environmental Impact Statements; Notice of Availability

Responsible Agency: Office of Federal Activities, General Information 202-564-5632 or https://www.epa.gov/nepa/.

Weekly receipt of Environmental Impact Statements

Filed 02/25/2019 Through 03/01/2019

Pursuant to 40 CFR 1506.9.

Notice:

Section 309(a) of the Clean Air Act requires that EPA make public its comments on EISs issued by other Federal agencies. EPA's comment letters on EISs are available at: https://cdxnodengn.epa.gov/cdx-enepa-public/action/eis/search.

EIS No. 20190019, Draft, USFS, MT, Custer Gallatin Forest Plan Revision, Comment Period Ends: 06/06/2019, Contact: Mariah Leuschen 406-587-6735.

EIS No. 20190021, Draft, UDOT, UT, I-15 Mile Post 11 Interchange, Comment Period Ends: 04/22/2019, Contact: Elisa Albury 801-834-5284.

EIS No. 20190022, Draft Supplement, BLM, NV, Mount Hope Project Supplemental Environmental Impact Statement, Comment Period Ends: 04/22/2019, Contact: Kevin Hurrell 775-635-4000.

Amended Notice:

EIS No. 20190020, Final, USFS, CA, WITHDRAWN—Exchequer Restoration Project, Review Period Ends: 04/01/2019, Contact: Elaine Locke 559-855-5355.

Revision to FR Notice Published 03/01/2019; Officially Withdrawn per request of the submitting agency.

Dated: March 5, 2019.
Robert Tomiak,
Director, Office of Federal Activities.

[FR Doc. 2019-04208 Filed 3-7-19; 8:45 am]

BILLING CODE 6560-50-P